DEPARTMENT OF ENERGY

10 CFR Part 900

RIN 1901-AB18

Coordination of Federal Authorizations for Electric Transmission Facilities

AGENCY: Office of Electricity Delivery and Energy Reliability, Department of Energy.

ACTION: Interim final rule and request for comment.

SUMMARY: Pursuant to section 216(h) of the Federal Power Act, the Department of Energy (DOE) is establishing procedures under which entities may request that DOE coordinate Federal authorizations for the siting of interstate electric transmission facilities. In today's Federal Register, DOE proposes several additional provisions that may be added to this part after consideration of public comments.

DATES: Effective Date: This interim final rule is effective October 20, 2008. Comment Date: Written comments must be received by October 20, 2008.

ADDRESSES: You may submit written comments, identified by RIN 1901-AB18, by any of the following methods:

1. E-mail to SEC216h@hq.doe.gov. Include RIN 1901-AB18 and “Interim Final Rule Comments” in the subject line of the e-mail. Please include the full body of your comments in the text of the message or an attachment.

2. Federal eRulemaking Portal: http://www.regulations.gov. Follow the instructions for submitting comments.

3. Mail: Address the comments to Mr. John Schnagl, Office of Electricity Delivery and Energy Reliability (OE-20), U.S. Department of Energy, 1000 Independence Avenue, SW., Washington, DC 20585. Due to potential delays in the Department's receipt and processing of mail sent through the U.S. Postal Service, we encourage commenters to submit comments electronically to ensure timely receipt.

FOR FURTHER INFORMATION CONTACT: Mr. John Schnagl, Office of Electricity Delivery and Energy Reliability (OE-20), U.S. Department of Energy, 1000 Independence Avenue, SW., Washington DC 20585; Phone (202) 586-1056; e-mail John.Schnagl@hq.doe.gov or Lot Cooke, Attorney Advisor, U.S. Department of Energy, Office of the General Counsel (GC-76), 1000 Independence Avenue, SW., Washington, DC 20585; Phone (202) 586-0503; e-mail Lot.Cooke@hq.doe.gov.

SUPPLEMENTARY INFORMATION:

I. Background

II. Discussion of Interim Final Rule

III. Interim Final Rulemaking

IV. Regulatory Review

V. Approval of the Office of Secretary

I. Background

Section 1221(a) of the Energy Policy Act of 2005 (Pub. L. 109-58) added a new section 216 to the Federal Power Act (FPA) (16 U.S.C. 791-828c) which deals with the siting of interstate electric transmission facilities. Section 216(h) of the FPA, as amended (16 U.S.C. 824p(h)), which is titled “Coordination of Federal Authorizations for Transmission Facilities,” provides for DOE to be the lead agency for purposes of coordinating all applicable Federal authorizations for the siting of interstate electric transmission facilities and related environmental reviews. This interim final rule establishes the procedures DOE will use in carrying out its responsibilities under section 216(h). In a notice of proposed rulemaking published in today's Federal Register, DOE proposes rule provisions for public comment that address: (1) The establishment of prompt and binding intermediate milestones and ultimate deadlines for the review of, and Federal authorization decisions relating to, proposed electric transmission facilities under section 216(h)(4)(A) of the FPA; (2) the Secretary of Energy's determination under section 216(h)(4)(B) that all necessary data has been submitted by an applicant, after which all permit decisions and related environmental reviews under Federal laws must be completed within one year, or as soon thereafter as practicable in compliance with Federal law; and (3) the requirement that DOE be informed by the permitting entities of authorization requests required under Federal law in order to site significant facilities used for the transmission of electricity in interstate commerce for the sale of electric energy at wholesale.

Section 216(h) of the FPA provides an entity seeking permits, special use authorizations, certifications, opinions, or other approvals required under Federal law in order to site an electric transmission facility with a coordinated Federal consideration process and, thus, avoid duplicative separate review processes by various Federal entities. In addition to providing for the coordination of Federal transmission siting determinations, section 216(h) also provides that, to the maximum extent practicable under applicable Federal law, Indian tribes, multistate entities, and State agencies that have their own separate permitting and environmental reviews can participate in the Federal coordination process if they so choose.

To facilitate the coordination of the Federal review process provided for in section 216(h) of the FPA, on August 8, 2006, various Federal agencies with permitting or other Federal authorization responsibility for the siting of electric transmission facilities entered into a Memorandum of Understanding on Early Coordination of Federal Authorization and Related Environmental Reviews Required in Order to Site Electric Transmission Facilities (MOU). The signatories to the MOU are DOE, the Departments of Defense, Agriculture, the Interior, and Commerce, the Federal Energy Regulatory Commission (FERC), the Environmental Protection Agency, the Counsel on Environmental Quality (CEQ), and the Advisory Council on Historic Preservation.¹ The MOU and these regulations, as explained herein, are the principal instruments DOE will employ for Federal intergovernmental coordination of electric transmission facilities permitting requests under section 216(h) of the FPA.

¹ The MOU is posted at http://www.oe.energy.gov/668.htm.

II. Discussion of Interim Final Rule

A. General

In deciding how to proceed procedurally in implementing its authority under section 216(h), DOE reached certain conclusions based on its understanding of the purpose of the statute. First, under FPA section 216(h), DOE is to “act as the lead agency for purposes of coordinating all applicable Federal authorizations and related environmental reviews” (emphasis added). DOE interprets the term “lead agency” as used in FPA section 216(h) as making the Department responsible for being the lead coordinating agency for environmental reviews, not the lead agency for preparing the environmental review under the National Environmental Policy Act (NEPA). In instances that the Department has a permitting role in siting an electric transmission facility, DOE may be the lead agency for preparing the environmental review document, but in general DOE and the permitting entities responsible for issuing Federal authorizations will jointly determine the appropriate permitting entity to be the lead agency for preparing NEPA compliance documents in accordance with existing CEQ regulations (40 CFR 1501.5).

Second, it is DOE's view that section 216(h) is intended to give an applicant seeking more than one Federal authorization for the construction or modification of electric transmission facilities access to a process under which all Federal reviews are made in a coordinated manner. With this in mind, DOE has determined that its coordination of Federal authorizations would be most beneficial as a request driven process. We do not believe Congress intended to impose DOE coordination on applicants who are satisfied with existing processes for obtaining the necessary Federal authorizations. If an applicant for Federal authorizations is familiar with existing Federal processes and is comfortable in proceeding under them, a requirement of DOE coordination is not only unnecessary, it would involve additional steps that could make the Federal review process more, rather than less, cumbersome and time-consuming. By establishing a request driven process, DOE provides coordination only in circumstances where the applicant for Federal authorizations determines that it will be beneficial for DOE to perform that role. In addition, DOE expects that permitting entities will coordinate applicable Federal authorizations and related environmental reviews even in instances where no coordination request has been received by DOE, and, as provided in section 216(h)(2) of the FPA DOE will be prepared to intercede if it determines that such coordination is not taking place.

B. Rule Provisions

Section 900.1 states the purpose of these regulations, which is to provide a process for the timely coordination of Federal authorizations for proposed transmission facilities pursuant to FPA section 216(h).

Section 900.2 of the interim final rule (“Applicability”) pertains to when DOE will consider a request for coordination of Federal authorizations. It provides that requests for coordination of Federal authorizations will be accepted by DOE only for facilities that are used for the transmission of electric energy in interstate commerce for the sale of electric energy at wholesale. This limitation of the applicability of the regulations is consistent with the intent of section 216 of the FPA, which is titled “Siting of Interstate Electric Transmission Facilities,” and adheres to the definition of transmission facilities used by FERC in Order No. 689 (regulations regarding application for permits to site electric transmission facilities issued under section 216 of the FPA).²

² Establishing Regulations for Filing Applications for Permits to Site Interstate Electric Transmission Facilities, Order No. 689, 71 FR 69440 (December 1, 2006), FERC Stats. & Regs. ¶ 31,234.

Further, requests for coordination of Federal authorizations for electric transmission facilities located within the Electric Reliability Council of Texas (ERCOT) interconnection will not be accepted because section 216(k) of the FPA states that section 216 of the FPA shall not apply within the ERCOT area (16 U.S.C. 824p(k)).

Finally, section 900.2 provides that DOE will not accept requests for coordination of Federal authorizations from requesters that have submitted an application to FERC for issuance of a permit for construction or modification of a transmission facility, or have initiated pre-filing procedures, under section 216(b) of the FPA (16 U.S.C. 824p(b)). In those circumstances, DOE has delegated its section 216(h) coordination authority to FERC ³ and, in Order No. 689, FERC adopted regulations setting forth the procedures it will follow in such circumstances.

³ Department of Energy Delegation Order No. 00-004-00A, section 1.22, issued May 16, 2006.

Section 900.3 provides definitions applicable to these regulations.

Section 900.4, which is titled “Pre-application mechanism,” implements section 216(h)(4)(C) of the FPA. That section directs DOE to provide “an expeditious pre-application mechanism for prospective applicants to confer with the agencies involved to have each agency determine and communicate to the prospective applicant not later than 60 days after the prospective applicant submits a request for such information concerning—(i) the likelihood of approval for a potential facility, and (ii) key issues of concern to the agencies and public” (16 U.S.C. 824p(h)(4)(C)). The procedures in section 900.4 complement those set forth in section III (B) of the MOU. The Department expects that the permitting agencies will supply information under section 216(h)(4)(C) in a manner consistent with existing laws. DOE views the section 900.4 pre-application mechanism as a discrete process, distinct from the process under section 900.5 of the interim final rule, or any other agency's pre-application process, and which provides details on the manner in which an applicant for a Federal authorization for an electric transmission facility can request DOE coordination of the Federal review process.

Once a request for coordination under section 900.5 of the interim final rule has been received by DOE, DOE will contact the permitting entities (defined in section 900.3 of the interim final rule as “any Federal or non-Federal entity that is responsible for issuing separate Federal authorizations for a transmission facility”) in order to coordinate their applicable Federal authorizations and environmental reviews relating to the proposed transmission facility. In addition, DOE will contact all Indian tribes, multistate entities, and State agencies that have their own separate non-Federal permitting and environmental reviews that have been identified by the requester under section 900.5(b)(4) of the interim final rule, to provide them the opportunity to participate in the coordination effort. For purposes of this rule, the term Indian tribes has the same meaning as provided in 25 U.S.C. 450b(e). Pursuant to the terms of the MOU, DOE will request permitting entities to provide DOE with the names, titles, telephone numbers, e-mail addresses, and other pertinent contact information for agency personnel who will be responsible for considering and issuing the Federal authorizations being sought by the requester from the permitting entities.

DOE and the permitting entities responsible for issuing Federal authorizations will, consistent with CEQ regulations, jointly determine the appropriate permitting entity to be the lead agency for preparing NEPA compliance documents and all other analyses required to comply with all environmental and cultural statutes and regulations under Federal law. Where relevant, and in accordance with the MOU, the U.S. Army Corps of Engineers shall be considered a participating agency. Indian tribes, multistate entities, and State agencies that have their own separate non-Federal permitting and environmental reviews may elect to participate in this coordination process.

DOE shall establish and maintain, to the extent practicable and in compliance with Federal law, a single location to store and display the information utilized by the permitting entities as the basis for their decisions on the proposed project under Federal law, including all environmental, cultural and historic preservation statutes and regulations. FERC's eLibrary is an example of such a source. This information shall be available to the applicant, all permitting entities, DOE, and all Indian tribes, multistate entities, and State agencies that have their own separate non-Federal permitting and environmental reviews. This information shall comprise a single environmental review document to be used as the basis for all Federal authorizations pertaining to the proposed transmission facility.

In coordinating the preparation of a single environmental review document, DOE will rely upon the permitting entities, as appropriate, to ensure compliance with all applicable requirements of Federal law. The single environmental review document shall be available to all permitting entities for issuing their individual decisions in order to ensure that each permitting entity's environmental review is in compliance with the statutory mandates and regulatory requirements applicable to action by that permitting entity.

Pursuant to section 216(h)(8)(A)(i) of the FPA (16 U.S.C. 824p(h)(8)(A)(i)), based on information filed by the requester under this part, DOE will make a determination on the length of the anticipated use of the proposed electric transmission facility and advise all permitting entities of that determination prior to the close of the public comment period for the draft of the NEPA compliance documents.

III. Interim Final Rulemaking

This rule establishes procedures for the coordination of Federal authorizations for the siting of interstate electric transmission facilities. The Administrative Procedure Act exempts rules of agency procedure from its provisions requiring notice and opportunity for comment before issuance of rules (5 U.S.C. 553(b)(A)). DOE, however, is publishing an interim rule that provides a public comment opportunity.

IV. Regulatory Review

A. Review Under Executive Order 12866

Today's regulatory action has been determined to be a “significant regulatory action” under Executive Order 12866, “Regulatory Planning and Review,” 58 FR 51735 (October 4, 1993). Accordingly, this action was subject to review under that Executive Order by the Office of Information and Regulatory Affairs of the Office of Management and Budget (OMB).

B. Review Under the National Environmental Policy Act

DOE has concluded that promulgation of these regulations falls into the class of actions that does not individually or cumulatively have a significant impact on the human environment as set forth in DOE's regulations implementing the National Environmental Policy Act of 1969 (42 U.S.C. 4321 et seq.). Specifically, the rule is covered under the categorical exclusion in paragraph A6 of Appendix A to subpart D, 10 CFR part 1021, which applies to rulemakings that are strictly procedural. Accordingly, neither an environmental assessment nor an environmental impact statement is required.

C. Review Under the Regulatory Flexibility Act

The Regulatory Flexibility Act (5 U.S.C. 601 et seq.) requires that an agency prepare an initial regulatory flexibility analysis for any regulation for which a general notice of proposed rulemaking is required, unless the agency certifies that the rule, if promulgated, will not have a significant economic impact on a substantial number of small entities (5 U.S.C. 605(b)). This rule establishes procedures for DOE coordination of Federal authorizations for the siting of interstate electric transmission facilities and, therefore, a general notice of proposed rulemaking is not required. Accordingly, the Regulatory Flexibility Act requirements do not apply.

D. Review Under the Paperwork Reduction Act

This rulemaking would impose no new information or recordkeeping requirements. Accordingly, Office of Management and Budget clearance is not required under the Paperwork Reduction Act of 1995 (44 U.S.C. 3501 et seq.).

E. Review Under the Unfunded Mandates Reform Act

Title II of the Unfunded Mandates Reform Act of 1995 (Pub. L. 104-4) requires each Federal agency to prepare a written assessment of the effects of any Federal mandate in a proposed or final agency regulation that may result in the expenditure by States, tribal or local governments, in the aggregate, or by the private sector, of $100 million in any one year. The Act also requires a Federal agency to develop an effective process to permit timely input by elected officials of State, tribal or local governments on a proposed significant intergovernmental mandate, and requires an agency plan for giving notice and opportunity to provide timely input to potentially affected small governments before establishing any requirements that might significantly or uniquely affect small governments. DOE has determined that the interim final rule published today does not contain any Federal mandates affecting States, tribal, or local governments, or the private sector, so these requirements do not apply.

F. Review Under Executive Order 12988

With respect to the review of existing regulations and the promulgation of new regulations, section 3(a) of Executive Order 12988, “Civil Justice Reform” (61 FR 4779, February 7, 1996) imposes on Federal agencies the general duty to adhere to the following requirements: eliminate drafting errors and needless ambiguity, write regulations to minimize litigation, provide a clear legal standard for affected conduct rather than a general standard, and promote simplification and burden reduction. Section 3(b) requires Federal agencies to make every reasonable effort to ensure that a regulation, among other things: clearly specifies the preemptive effect, if any, adequately defines key terms, and addresses other important issues affecting the clarity and general draftsmanship under guidelines issued by the Attorney General. Section 3(c) of Executive Order 12988 requires executive agencies to review regulations in light of applicable standards in section 3(a) and section 3(b) to determine whether they are met or it is unreasonable to meet one or more of them. DOE has completed the required review and determined that, to the extent permitted by law, this interim final rule meets the relevant standards of Executive Order 12988.

G. Review Under Executive Order 13132

Executive Order 13132, “Federalism,” 64 FR 43255 (August 10, 1999) imposes certain requirements on agencies formulating and implementing policies or regulations that preempt State law or that have federalism implications. Agencies are required to examine the constitutional and statutory authority supporting any action that would limit the policymaking discretion of the States and carefully assess the necessity for such actions. DOE has examined this interim final rule and has determined that it would not preempt State law and would not have substantial direct effects on the States, on the relationship between the national government and the States, or on the distribution of power and responsibility among the various levels of government. No further action is required by the executive order.

H. Review Under the Treasury and General Government Appropriations Act, 1999

Section 654 of the Treasury and General Government Appropriations Act, 1999 (Pub. L. 105-277) requires Federal agencies to issue a “Family Policymaking Assessment” for any rule that may affect family well-being. This rule has no impact on the autonomy or integrity of the family as an institution. Accordingly, DOE has concluded that it is not necessary to prepare a Family Policymaking Assessment.

I. Review Under Executive Order 13211

Executive Order 13211, “Actions Concerning Regulations That Significantly Affect Energy, Supply, Distribution, or Use,” 66 FR 28355 (May 22, 2001) requires preparation and submission to OMB of a Statement of Energy Effects for significant regulatory actions under Executive Order 12866 that are likely to have a significant adverse effect on the supply, distribution, or use of energy. DOE has determined that the interim final rule published today does not have a significant adverse effect on the supply, distribution, or use of energy and, thus, the requirement to prepare a Statement of Energy Effects does not apply.

J. Review Under the Treasury and General Government Appropriations Act, 2001

The Treasury and General Government Appropriations Act, 2001 (44 U.S.C. 3516 note) provides for agencies to review most dissemination of information to the public under guidelines established by each agency pursuant to general guidelines issued by OMB. OMB's guidelines were published at 67 FR 8452 (Feb. 22, 2002), and DOE's guidelines were published at 67 FR 62446 (Oct. 7, 2002). DOE has reviewed today's interim final rule under the OMB and DOE guidelines and has concluded that it is consistent with applicable policies in those guidelines.

K. Congressional Notification

As required by 5 U.S.C. 801, DOE will submit to Congress a report regarding the issuance of today's interim final rule prior to the effective date set forth at the outset of this rulemaking. The report will state that it has been determined that the rule is not a “major rule” as defined by 5 U.S.C. 801(2).

V. Approval of the Office of the Secretary

The Secretary of Energy has approved publication of this interim final rule.

List of Subjects in 10 CFR Part 900

Electric power, Electric utilities, Energy, Reporting and recordkeeping requirements.

Issued in Washington, DC, on September 12, 2008.
Kevin M. Kolevar,
Assistant Secretary, Office of Electricity Delivery and Energy Reliability.

For the reasons set forth in the preamble, the Department of Energy amends chapter II of title 10 of the Code of Federal Regulations by adding a new part 900 as set forth below.

PART 900—COORDINATION OF FEDERAL AUTHORIZATIONS FOR ELECTRIC TRANSMISSION FACILITIES

Sec.
900.1 Purpose.
900.2 Applicability.
900.3 Definitions.
900.4 Pre-application mechanism.
900.5 Request for coordination.
900.6 Coordination of permitting and related environmental reviews.

Authority: 16 U.S.C. 824p(h).

§ 900.1 Purpose.

This part provides a process for the timely coordination of Federal authorizations for proposed transmission facilities pursuant to section 216(h) of the Federal Power Act (FPA). The regulations provide for the compilation of a single environmental review document in order to coordinate all permitting and environmental reviews required to be issued under Federal law. They also provide an opportunity for non-Federal entities to coordinate their own separate non-Federal permitting and environmental reviews with that of the permitting entities.

§ 900.2 Applicability.

(a) DOE accepts requests for coordination of Federal authorizations under this part only for facilities that are used for the transmission of electric energy in interstate commerce for the sale of electric energy at wholesale.

(b) DOE does not accept requests for coordination under this part of Federal authorizations for electric transmission facilities located within the Electric Reliability Council of Texas interconnection.

(c) DOE does not accept requests for coordination under this part from persons that have submitted an application to the Federal Energy Regulatory Commission (FERC) for issuance of a permit for construction or modification of a transmission facility under 18 CFR 50.6 or have initiated pre-filing procedures under 18 CFR 50.5.

(d) DOE, in exercising its responsibilities under this part, will consult regularly with FERC, electric reliability organizations, and transmission organizations approved by FERC.

§ 900.3 Definitions.

As used in this part:

Applicant means a person or entity who is seeking a Federal authorization.

Director means the Director of Permitting and Siting in the Office of Electricity Delivery and Energy Reliability within DOE.

DOE means the U.S. Department of Energy.

Federal authorization means any authorization required under Federal law to site a transmission facility, including permits, special use authorizations, certifications, opinions, or other approvals. This term includes authorizations issued by Federal and non-Federal entities that are responsible for issuing authorizations under Federal law for a transmission facility.

FERC means the Federal Energy Regulatory Commission.

FPA means the Federal Power Act (16 U.S.C. 791-828c).

Indian tribe has the same meaning as provided in 25 U.S.C. 450b(e).

NEPA means the National Environmental Policy Act of 1969 (42 U.S.C. 4321 et seq.)

Non-federal entity means Indian tribes, multistate entities, and State agencies.

Permitting entity means any Federal or non-Federal entity that is responsible for issuing Federal authorizations.

Request for coordination means a request to DOE for coordination of Federal authorizations under this part.

Requester means an applicant that is seeking DOE coordination of Federal authorizations under this part.

Single Environmental Review Document means the total material that the permitting entities develop—with the lead agency for preparing the NEPA document being primarily responsible—and that DOE shall assemble, along with any other material considered necessary and made available by DOE, in order to fulfill Federal obligations for preparing NEPA compliance documents and all other analyses required to comply with all environmental, cultural and historic preservation statutes and regulations under Federal law. This information shall be available to the applicant, all permitting entities, DOE, and all Indian tribes, multistate entities, and State agencies that have their own separate non-Federal permitting and environmental reviews.

§ 900.4 Pre-Application mechanism.

(a) An applicant, or prospective applicant, for a Federal authorization seeking information from a permitting entity pursuant to 16 U.S.C. 824p(h)(4)(C) must request information pursuant to the terms specified in this section with a permitting entity, and notify the Director of the request to the permitting entity.

(b) Any request for information filed under this section shall specify in sufficient detail the information sought from the permitting entity and shall contain sufficient information for the permitting entity to provide the requested information pursuant to 16 U.S.C. 824p(h)(4)(C).

(c) Within 60 days of receipt of such a request for information, a permitting entity shall provide, to the extent permissible under existing law, information concerning the request to the applicant, or prospective applicant, and the Director.

§ 900.5 Request for coordination.

(a) A requester shall file a request for coordination with the Director.

(b) The request shall contain:

(1) The exact legal name of the requester; its principal place of business; whether the requester is an individual, partnership, corporation, or other entity; the State laws under which the requester is organized or authorized; and the name, title, and mailing address of the person or persons to whom communications concerning the request for coordination are to be addressed;

(2) A concise general description of the proposed transmission facility sufficient to explain its scope and purpose, including:

(i) The voltage and type of current (alternating or direct);

(ii) The length of the transmission line;

(iii) The design and height of the support structures;

(iv) The proposed route (including the beginning and ending nodes of the transmission project, and a brief geographical description of the proposed route);

(v) A map of the proposed route (if available);

(vi) Any ancillary facilities associated with the proposed route;

(vii) The proposed dates for the beginning and completion of construction and the commencement of service;

(viii) Whether the applicant for a Federal authorization of the proposed transmission facility has submitted an interconnection request with a transmission organization or electric reliability organization approved by FERC; and

(ix) The anticipated length of time the proposed transmission facility will be in service;

(3) A list of all permitting entities from which Federal authorizations pertaining to the proposed transmission facility are needed, including the docket numbers of pending applications with permitting entities;

(4) A list of non-Federal entities that have their own separate non-Federal permitting and environmental reviews pertaining to the proposed transmission facility, including the docket numbers of relevant applications;

(5) A signed statement to the Director that the requester has served a copy of the request for coordination to all permitting entities, and all non-Federal entities that have their own separate non-Federal permitting and environmental reviews; and

(6) A statement by the requester certifying that it has informed the non-Federal entities that have their own separate non-Federal permitting and environmental reviews pertaining to the proposed transmission facility that they may coordinate their permitting and environmental reviews with DOE and the permitting entities pursuant to section 16 U.S.C. 824p(h)(4)(A). The statement should list the specific persons served and other pertinent contact information at all permitting entities and all non-Federal entities.

(c) The written request for coordination may be filed by mail or hand delivery with the Director at 1000 Independence Avenue, SW., Washington, DC 20585, or electronically in MS Word or PDF formats at SEC216h@hq.doe.gov. Electronic filing is DOE's preferred method. If filing by hand or mail, DOE requests that an electronic copy be filed as well.

(d) Upon receipt, DOE will post and make publicly available at http://www.oe.energy.gov/fed_transmission.htm each request for coordination and any subsequent correspondence and material filed with DOE in connection with the request, except for information exempt from disclosure under the Freedom of Information Act.

§ 900.6 Coordination of permitting and related environmental reviews.

(a)(1) Upon receipt of a request for coordination, DOE, as the coordinator of all applicable Federal authorizations and related environmental reviews, and the permitting entities shall jointly determine the appropriate level of coordination required, and, where applicable, the appropriate permitting entity to be the lead agency for preparing NEPA compliance documents, including all documents required to support a final agency decision, and all other analyses used as the basis for all decisions on a proposed transmission facility under Federal law. Designation of the lead agency for preparing NEPA documents shall be in compliance with regulations issued by the Council on Environmental Quality at 40 CFR 1500 et seq.

(2) Non-Federal entities that have their own separate non-Federal permitting and environmental reviews may elect to participate in the coordination process under paragraph (a)(2) of this section.

(b)(1) DOE as the agency coordinating federal authorizations shall establish, maintain, and utilize, to the extent practicable and in compliance with Federal law, a single location to store and display (electronically if practicable) all of the information assembled in order to fulfill Federal obligations for preparing NEPA compliance documents and all other analyses required to comply with all environmental and cultural statutes and regulations under Federal law. This information shall be available to the applicant, all permitting entities, DOE, and all Indian tribes, multistate entities, and State agencies that have their own separate non-Federal permitting and environmental reviews.

(2) DOE shall establish and maintain, to the extent practicable and in compliance with Federal law, a single location to store and display the information utilized by the permitting entities as the basis for their decisions on the proposed project under Federal law, including all environmental, cultural protection and natural resource protection statutes and regulations.

(3) In coordinating the preparation of a single environmental review document, DOE will rely upon the permitting entities, as appropriate, to ensure compliance with all applicable requirements of Federal law.

(4) The single environmental review document shall be made available to all permitting entities for making their agency decisions in order to ensure that each permitting entity's environmental review is in compliance with the statutory mandates and regulatory requirements applicable to action by that permitting entity.

[FR Doc. E8-21866 Filed 9-18-08; 8:45 am]

BILLING CODE 6450-01-P